DEPARTMENT OF HEALTH AND HUMAN SERVICES

Announcing an Opportunity To Become a National Youth Sports Strategy Champion

AGENCY: Department of Health and Human Services, Office of the Secretary, Office of the Assistant Secretary for Health, Office of Disease Prevention and Health Promotion.

ACTION: Notice.

SUMMARY: The Office of Disease Prevention and Health Promotion (ODPHP) invites public and private sector organizations that support the National Youth Sports Strategy (NYSS) to become a National Youth Sports Strategy Champion (NYSS Champion). NYSS Champions can be youth-serving organizations that work in alignment with the NYSS or organizations that support youth sports through donations or other means. Organizations should submit a statement of interest acknowledging their support of the NYSS vision: That one day, all youth will have the opportunity, motivation, and access to play sports—regardless of their race, ethnicity, sex, ability, or ZIP code. NYSS Champions will receive recognition from ODPHP and the President's Council on Sports, Fitness, and Nutrition (PCSFN) on Health.gov, a digital NYSS Champion badge to highlight their support of the NYSS, and tools to disseminate the NYSS and promote physical activity.

DATES: Statements of interest to become an NYSS Champion will be accepted starting on June 16, 2020.

ADDRESSES: Statements of interest can be submitted via email to sports@hhs.gov.

FOR FURTHER INFORMATION CONTACT: Katrina L. Piercy, Ph.D., R.D., Office of Disease Prevention and Health Promotion (ODPHP), Office of the Assistant Secretary for Health (OASH), U.S. Department of Health and Human Services (HHS); 1101 Wootton Parkway, Suite 420, Rockville, MD 20852; Telephone: (240) 453-8280. Email: sports@hhs.gov.

SUPPLEMENTARY INFORMATION:

Background: On behalf of HHS, ODPHP leads the development and implementation of the Physical Activity Guidelines for Americans and the National Youth Sports Strategy (NYSS) and manages the PCSFN. The PCSFN is the only federal advisory committee focused solely on the promotion of physical activity, fitness, sports, and nutrition.

HHS released the NYSS in September 2019 in response to Executive Order 13824. ODPHP led the development of the NYSS, in collaboration with the Centers for Disease Control and Prevention and the National Institutes of Health, and with recommendations from the PCSFN. The NYSS aims to unite U.S. youth sports culture around a shared vision: That one day, all youth will have the opportunity, motivation, and access to play sports—regardless of their race, ethnicity, sex, ability, or ZIP code. The NYSS specifically outlines steps for everyone to take action and help improve the youth sports landscape in the United States. A framework for understanding youth sports participation highlights opportunities and action items for youth, adults, organizations, communities, and public agencies (https://health.gov/sites/default/files/2019-10/NYSS_ExecutiveSummary.pdf). NYSS Champion organizations are working toward the NYSS vision and are promoting and supporting youth sports, particularly in underserved populations.

Requirements of Interested Organizations: ODPHP invites organizations that support youth sports and that demonstrate efforts toward improving the youth sports landscape in the United States to submit a statement of interest to become an NYSS Champion. Participating organizations will sign a letter of understanding (LOU) to outline the terms and parameters of their support for the NYSS. Organizations with an active LOU will be granted use of the digital NYSS Champion badge as long as the organization continues to work in alignment with the NYSS. Use of the NYSS Champion badge does not imply any federal endorsement of the collaborating organization's general policies, activities, or products.

Eligibility for Interested Organizations: To be eligible to become an NYSS Champion, an organization shall: (1) Have a demonstrated interest in, understanding of, and experience with supporting youth sports; (2) have an organizational or corporate mission that is aligned with the NYSS vision; and (3) agree to sign a LOU with ODPHP, which will set forth the details of how the organization is supporting the vision of the NYSS.

Statement of Interest Requirements:

Each statement of interest shall contain:

(1) Organization name, location, website, and submitter's contact information;

(2) a brief description of the organization's mission and/or values; and

(3) a description of how the organization supports or plans to support the NYSS vision, such as prioritizing underserved populations, donating funds or equipment, or alignment with specific opportunities and action items outlined in the NYSS (https://health.gov/sites/default/files/2019-10/NYSS_ExecutiveSummary.pdf).

Submission of a statement of interest does not guarantee acceptance as an NYSS Champion. ODPHP will review and evaluate statements of interest for alignment with the NYSS vision.

Carter Blakey,
Acting Director, Office of Disease Prevention and Health Promotion.

[FR Doc. 2020-12955 Filed 6-15-20; 8:45 am]

BILLING CODE 4150-32-P